POSTAL REGULATORY COMMISSION

Sunshine Act Meetings

Name of Agency: Postal Regulatory Commission.

Time and Date: Tuesday, April 29, 2008 at 9 a.m.

Place: Commission conference room, 901 New York Avenue, NW., Suite 200, Washington, DC 20268-0001.

Status: Closed.

Matters to be Considered: Docket No. MC2008-1—consideration of motion to compel.

For Further Information Contact: Stephen L. Sharfman, General Counsel, Postal Regulatory Commission, 901 New York Avenue, NW., Suite 200, Washington, DC 20268-0001, 202-789-6818.

Dated: April 28, 2008.
Steven W. Williams,
Secretary.

[FR Doc. 08-1205 Filed 4-29-08; 11:38 am]

BILLING CODE 7710-FW-P